SMALL BUSINESS ADMINISTRATION

Data Collection Available for Public Comments and Recommendations

ACTION: Notice; Extension of comment period for new 8(a) Business Development Program reporting requirements.

SUMMARY: On December 10, 2012, the Small Business Administration (SBA) published the 60-day notice in the Federal Register as required by the Paperwork Reduction Act to solicit public comments on new 8(a) Business Development Program reporting requirements. SBA is extending the comment period for this collection information for 30 days to allow interested persons additional time to submit comments.

DATES: Submit comments on or before March 11, 2013.

ADDRESSES: Send all comments to Joan Elliston, Program Analyst, Office of Business Development, U.S. Small Business Administration, 409 3rd Street 8th Floor, Washington, DC 20416.

FOR FURTHER INFORMATION CONTACT: Joan Elliston, Program Analyst, (202) 205-7190, joan.elliston@sba.gov; Curtis B. Rich, Management Analyst, (202) 205-7030, curtis.rich@sba.gov.

SUPPLEMENTARY INFORMATION: This new collection of information imposes reporting and recordkeeping requirements that will affect small businesses seeking to maintain 8(a) Business Development (BD) program eligibility. To facilitate the reporting of the information, required by 13 CFR 124.604, SBA is creating a new form, “8(a) Participant Benefits Report.” The individual 8(a) Participant firm is responsible for completing the form and can furnish its own benefits information or utilize the benefits information offered by its parent corporation. The firm must show how the Tribe, Alaskan Native Corporation (ANC), Native Hawaiian Organization (NHO) or Community Development Corporation (CDC) has provided benefits to the Tribal or native members and/or the Tribal, native or other community due to the Tribe's/ANC's/NHO's/CDC's participation in the 8(a) BD program through one or more firms. This data includes information relating to funding cultural programs, employment assistance, jobs, scholarships, internships, subsistence activities, and other services provided by the Tribe, ANC, NHO or CDC to the affected community.

Comments are invited on: (a) Whether the collection of information is necessary for the Agency to properly perform its functions; (b) the accuracy of the estimated hour burden for the collection of information; (c) ways to enhance the quality, utility, and clarity of the information; and (d) ways to minimize the burden on responding firms.

Title: “8(a) Participant Benefits Report”.

Description of Respondents: Firms that are currently certified as 8(a) Participant firms in the 8(a) Business Development program and are owned by a Tribe, ANC, NHO, or CDC.

Form Number: N/A.

Annual Responses: 320.

Annual Burden: 480.

Curtis Rich,
Management Analyst.

[FR Doc. 2013-02833 Filed 2-7-13; 8:45 am]

BILLING CODE 8025-01-P